DEPARTMENT OF TRANSPORTATION

Federal Aviation Administration

14 CFR Part 39

[Docket No. FAA-2005-22585; Directorate Identifier 2005-NM-041-AD; Amendment 39-14328; AD 2005-20-31]

RIN 2120-AA64

Airworthiness Directives; Honeywell Flight Management System (FMS) One Million Word (1M or 700K) Data Bases (9104 Cycle or Earlier), as Installed in, but Not Limited to, McDonnell Douglas Model MD-11 and MD-11F Airplanes, Boeing Model 747-400 Series Airplanes, and Boeing Model 757 and 767 Airplanes

AGENCY: Federal Aviation Administration, DOT.

ACTION: Final rule; rescission; request for comments.

SUMMARY: The FAA is rescinding an existing airworthiness directive (AD) that applies to Honeywell FMS one million word (1M or 700K) data bases (9104 cycle or earlier) as installed in, but not limited to McDonnell Douglas Model MD-11 and MD-11F airplanes, Boeing Model 747-400 series airplanes, and Boeing Model 757 and 767 airplanes. That AD requires a revision to the FAA-approved Airplane Flight Manual (AFM) and installation of a placard to prohibit the use of Nondirectional Beacon (NDB) approaches for landing. That AD was prompted by an anomaly in the Honeywell FMS one million word (1M or 700K) data bases (9104 cycle or earlier). We issued that AD to prevent an airplane deviating from the published approach to the runway, which could lead to premature ground contact before reaching the runway. Since we issued that AD, we have determined that the Honeywell FMS one million word (1M or 700K) databases (9104 cycle or earlier) no longer exist on any of the affected airplanes.

DATES: This AD becomes effective October 5, 2005.

We must receive comments on this AD by December 5, 2005.

ADDRESSES: Use one of the following addresses to submit comments on this rescission.

• DOT Docket Web site: Go to http://dms.dot.gov and follow the instructions for sending your comments electronically.

• Government-Wide Rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: room PL-401 on the plaza level of the Nassif Building, 400 Seventh Street SW., Washington, DC, between 9 a.m. and 5 p.m., Monday through Friday, except Federal holidays.

You can examine the contents of this AD docket on the Internet at http://dms.dot.gov, or at the Docket Management Facility, U.S. Department of Transportation, 400 Seventh Street, SW., room PL-401, on the plaza level of the Nassif Building, Washington, DC.

FOR FURTHER INFORMATION CONTACT: George Mabuni, Aerospace Engineer, Systems and Equipment Branch, ANM-130L, FAA, Los Angeles Aircraft Certification Office, 3960 Paramount Boulevard, Lakewood, California 90712-4137; telephone (562) 627-5341; fax (562) 627-5210.

SUPPLEMENTARY INFORMATION: On May 30, 1991, the FAA issued AD 91-08-51, amendment 39-7031 (56 FR 26610, June 10, 1991) (originally issued on April 5, 1991, as telegraphic AD T91-08-51). That AD applies to certain McDonnell Douglas Model MD-11 airplanes, and Boeing Model 747-400, 757, and 767 series airplanes. That AD requires a revision to the FAA-approved Airplane Flight Manual (AFM) and installation of a placard to prohibit the use of Nondirectional Beacon (NDB) approaches for landing. That action was prompted by an anomaly in the Honeywell Flight Management System (FMS) one million word (1M or 700K) data bases (9104 cycle or earlier). The actions required by that AD are intended to prevent an airplane deviating from the published approach to the runway, which could lead to premature ground contact before reaching the runway.

Actions Since Previous AD Was Issued

In February 2004, the FAA Office of Rulemaking (ARM-20) asked the public to tell us which regulations we should amend, eliminate, or simplify. We received about 100 comments from more than 30 commenters. One of the comments was on AD 91-08-51. The commenter stated that the navigational databases are upgraded monthly and no flight crew will be using a 13-year-old navigational database today.

We agree with the commenter that AD 91-08-51 is no longer necessary and therefore we will rescind the AD. We have received confirmation from the airplane and equipment manufacturers that the Honeywell FMS one million word (1M or 700K) databases (9104 cycle or earlier) no longer exist on any of the affected airplanes worldwide.

FAA's Determination

Upon further consideration, we have determined that we need to rescind AD 91-08-51 to eliminate an unnecessary regulation. Operators may remove the AFM revision and the placard that prohibit the use of NDB approaches for landing.

Since this action rescinds a requirement to perform an unnecessary action, it has no adverse economic impact and imposes no additional burden on any person. Therefore, providing notice and opportunity for public comment is unnecessary before this AD is issued, and this AD may be made effective in less than 30 days after it is published in the Federal Register.

Explanation of Change to Applicability

We have revised the applicability of the existing AD to identify model designations as published in the most recent type certificate data sheet for the affected models.

Comments Invited

Although this is a final rule that was not preceded by notice and an opportunity for public comment, we invite you to submit any written relevant data, views, or arguments regarding this AD. Send your comments to an address listed under ADDRESSES. Include “Docket No. FAA-2005-22585; Directorate Identifier 2005-NM-041-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

The Rescission

Accordingly, according to the authority delegated to me by the Administrator, the FAA proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by adding an airworthiness directive (AD) that removes amendment 39-7031 (56 FR 26610, June 10, 1991), to read as follows:

2005-20-31 Honeywell: Amendment 39-14328. Docket No. FAA-2005-22585; Directorate Identifier 2005-NM-041-AD. Rescinds AD 91-08-51, Amendment 39-7031.

Effective Date

(a) This AD becomes effective October 5, 2005.

Affected ADs

(b) This action rescinds AD 91-08-51.

Applicability

(c) This action applies to Honeywell Flight Management System (FMS) one million word (1M or 700K) data bases (9104 cycle or earlier), as installed in, but not limited to, McDonnell Douglas Model MD-11 and MD-11F airplanes, and Boeing Model 747-400 series airplanes, Model 757-200, -200PF, -200CB, and -300 series airplanes, and Model 767-200, -300, -300F, and -400ER series airplanes, certificated in any category.

Issued in Renton, Washington, on September 26, 2005.
Ali Bahrami,
Manager, Transport Airplane Directorate, Aircraft Certification Service.

[FR Doc. 05-19938 Filed 10-4-05; 8:45 am]

BILLING CODE 4910-13-P